NATIONAL AERONAUTICS AND SPACE ADMINISTRATION

[Notice: (20-023)]

Notice of Intent To Grant Co-Exclusive License

AGENCY: National Aeronautics and Space Administration.

ACTION: Notice of intent to grant co-exclusive patent license.

SUMMARY: NASA hereby gives notice of its intent to grant a co-exclusive patent license in the United States to practice the invention described and claimed in U.S. Patent Application entitled, “Method for Simulation of Flow in Fluid Flow Network Having One-Dimensional and Multi-Dimensional Flow Components”, MFS-33798-1, to Concepts NREC, LLC, having its principal place of business in White River Junction, VT. The fields of use may be limited. The patent rights in these inventions have been assigned to the United States of American as represented by the Administrator of the National Aeronautics and Space Administration. NASA has not yet made a determination to grant the requested license and may deny the requested license even if no objections are submitted within the comment period.

DATES: The prospective co-exclusive license may be granted unless NASA receives written objections, including evidence and argument no later than March 30, 2020 that establish that the grant of the license would not be consistent with the requirements regarding the licensing of federally owned inventions as set forth in the Bayh-Dole Act and implementing regulations. Competing applications completed and received by NASA no later than March 30, 2020 will also be treated as objections to the grant of the contemplated co-exclusive license. Objections submitted in response to this notice will not be made available to the public for inspection and, to the extent permitted by law, will not be released under the Freedom of Information Act.

ADDRESSES: Objections relating to the prospective license may be submitted to James J. McGroary, Chief Patent counsel/LS01, NASA Marshall Space Flight Center, Huntsville, AL 35812, (256) 544-0013. Email james.j.mcgroary@nasa.gov.

FOR FURTHER INFORMATION CONTACT: Cory S. Efird, Technology Transfer Branch/ST22, NASA Marshall Space Flight Center, Huntsville, AL 35812, (256) 617-0237. Email cory.efird@nasa.gov.

SUPPLEMENTARY INFORMATION: This notice of intent to grant a co-exclusive patent license is issued in accordance with 35 U.S.C. 209(e)) and 37 CFR 404.7(a)(1)(i). The patent rights in these inventions have been assigned to the United States of America as represented by the Administrator of the National Aeronautics and Space Administration. The prospective co-exclusive license will comply with the requirements of 35 U.S.C. 209 and 37 CFR 404.7.

Information about other NASA inventions available for licensing can be found online at http://technology.nasa.gov.

Helen M. Galus,
Agency Counsel for Intellectual Property.

[FR Doc. 2020-05152 Filed 3-12-20; 8:45 am]

BILLING CODE 7510-13-P